DEPARTMENT OF AGRICULTURE

Commodity Credit Corporation

Foreign Agricultural Service

Notice of Funding Opportunity: Inviting Applications for the Market Access Program

SUMMARY: The Commodity Credit Corporation (CCC) announces that it is inviting applications for the 2020 Market Access Program (MAP). The MAP is administered by personnel of the Foreign Agricultural Service (FAS) on behalf of CCC. The intended effect of this notice is to solicit proposals from eligible applicants for fiscal year 2020 and to set out the criteria for the awarding of funds under the program.

DATES: All applications must be received by 5 p.m. Eastern Daylight Time, Friday, June 28, 2019. Applications received after this date will not be considered. FAS anticipates that the initial funding selections will be made by the end of October 2019, with the initial award dates estimated to be by the end of December 2019.

FOR FURTHER INFORMATION CONTACT: Applicants needing assistance should contact the Program Operations Division, Office of Trade Programs, Foreign Agricultural Service by courier: Room 6512, 1400 Independence Ave. SW, Washington, DC 20250, or by phone: (202) 720-4327, or by fax: (202) 720-9361, or by email: uesadmin@fas.usda.gov. Information, including a copy of the program regulations, is also available on the FAS website at the following URL address: http://www.fas.usda.gov/programs/market-access-program-map.

SUPPLEMENTARY INFORMATION:

A. Funding Opportunity Description

Announcement Type: New.

Award Instrument: Grant.

Catalog of Federal Domestic Assistance (CFDA) Number: 10.601.

Authorizing Authority: The MAP is authorized under Section 203(b) of the Agricultural Trade Act of 1978 (7 U.S.C. 5623(b)), as amended. MAP regulations appear at 7 CFR part 1485.

Appropriation Authority: Funding for the MAP is provided under 7 U.S.C. 5623(f).

Purpose: The MAP is designed to encourage the development, maintenance, and expansion of commercial export markets for United States agricultural commodities and products through cost-share assistance. Under the MAP, FAS enters into agreements with eligible Participants to share the cost of certain overseas marketing and promotion activities. Financial assistance under the MAP is made available on a competitive basis, and applications are reviewed against the evaluation criteria contained herein and in the MAP regulations. All U.S. agricultural commodities, except tobacco, are eligible for consideration.

FAS allocates funds in a manner that effectively supports the strategic decision-making initiatives of the Government Performance and Results Act (GPRA) of 1993. In deciding whether a proposed project will contribute to the effective creation, expansion, or maintenance of foreign markets, FAS considers whether the applicant provides a clear, long-term agricultural trade strategy and an effective program time line against which results can be measured at specific intervals using quantifiable product or country goals. FAS also considers the extent to which a proposed project targets markets with the greatest growth potential. These factors are part of the FAS resource allocation strategy to fund applicants who can best demonstrate performance and address the objectives of the GPRA.

Funding Available: The Agriculture Improvement Act of 2018 provides no less than $200 million for MAP for each of the fiscal years FY 2019 through FY 2023.

B. Eligibility Information

1. Eligible Organizations: To participate in the MAP, an applicant must be a nonprofit U.S. agricultural trade organization, a nonprofit state regional trade group, a U.S. agricultural cooperative, or a state government agency. Small-sized private U.S. commercial entities may participate in a branded program through a MAP Participant.

2. Eligible Activities: MAP Participants may receive assistance for generic or brand promotion activities. For generic activities, funding priority is given to organizations that have the broadest possible producer representation of the commodity being promoted and that are nationwide in membership and scope. For branded activities, only nonprofit U.S. agricultural trade organizations, nonprofit state regional trade groups (SRTGs), U.S. agricultural cooperatives, and state government agencies can participate directly in the brand program.

3. Limits on Activities: MAP activities are approved for a single program year, with the approval dates specified in the allocation approval letter that is provided as part of the award approval package. Only those MAP activities that are approved in each applicant's allocation approval letter may be implemented, and those activities must be implemented during the 12-month program year specified in the allocation approval letter. Requests for activity changes during the program year must be approved in advance by FAS. MAP Participants must re-apply for the program every year.

4. Funding Restrictions: Certain types of expenses are not eligible for reimbursement by the program, and there are limits on other categories of expenses. FAS also will not reimburse unreasonable expenditures or expenditures made prior to approval. Full details and a list of eligible and ineligible expenses may be found in the MAP regulations in section 1485.17.

5. Cost-Sharing: To participate in the MAP, an applicant must agree to contribute resources towards its proposed promotional activities. The MAP is intended to supplement, not supplant, the efforts of the U.S. private sector. In the case of generic promotion, the contribution must be at least 10 percent of the value of resources provided by FAS for such generic promotion. In the case of branded promotion, the contribution must be at least 50 percent of the total cost of such brand promotion.

The degree of commitment of an applicant to the promotional strategies contained in its application, as represented by the cost-share contributions specified therein, is considered by FAS when determining which applications will be approved for funding. Cost-share may be actual cash invested or in-kind contributions, such as professional staff time spent on the design and implementation of activities. The MAP regulations, in section 1485.16, provide a detailed discussion of eligible and ineligible cost-share contributions.

6. Other: Applications should include a justification for funding assistance from the program—an explanation as to what specifically could not be accomplished without federal funding assistance and why participating organizations are unlikely to carry out the project without such assistance. The MAP generally operates on a reimbursement basis.

7. Intergovernmental Review: An intergovernmental review may be required. Applicants must contact their state's Single Point of Contact (SPOC) to comply with their state's process under Executive Order 12372 (see http://www.fws.gov/policy/library/rgeo12372.pdf). The names and addresses of the SPOCs are maintained at the Office of Management and Budget's home page at https://www.whitehouse.gov/wp-content/uploads/2017/11/SPOC-Feb.-2018.pdf.

C. Award Information

Projected Period of Performance Start Date(s): 01/01/2020

Projected Period of Performance End Date(s): 09/30/2023

It is anticipated that FAS will award approximately 70 awards under the 2020 MAP, subject to programmatic approval and available funding. In general, all qualified proposals received before the submission deadline will compete for funding. FAS will review all proposals against the evaluation criteria contained in the program regulations.

Funding for successful proposals will be provided through specific agreements. FAS must approve in advance any subsequent changes to the agreement.

Within 90 days after the end of the period of performance, or after an amendment has been issued to close out a grant, whichever comes first, FAS will confirm that the participant has provided all of the required reports and will review the reports for completeness and content. Once the required reports are approved, FAS will prepare a closeout letter that advises the participant of the award closeout procedures. The notice will indicate the period of performance as closed, list any remaining funds that will be de-obligated, and address the requirement of maintaining the grant records for three years from the date of the final FFR.

D. Application and Submission Information

1. Address to Submit Application Package: Organizations should submit their MAP applications to FAS through the web-based Unified Export Strategy (UES) system. The UES allows interested applicants to submit a single consolidated and strategically coordinated proposal that incorporates requests for funding under all of the FAS market development programs. The suggested UES format encourages applicants to examine the constraints or barriers to trade that they face, identify activities that would help overcome such impediments, consider the entire pool of complementary marketing tools and program resources, and establish realistic export goals. Applicants planning to use the UES system must first contact FAS' Program Operations Division to obtain site access information. The web-based application may be found at the following URL address: https://www.fas.usda.gov/ues/webapp/.

Applicants experiencing difficulty or otherwise needing assistance applying to the program should contact the Program Operations Division, Office of Trade Programs, Foreign Agricultural Service by courier: Room 6512, 1400 Independence Ave. SW, Washington, DC 20250, or by phone: (202) 720-4327, or by fax: (202) 720-9361, or by email: uesadmin@fas.usda.gov.

2. Content and Form of Application Submission: To be considered for MAP, an applicant must submit to FAS an application package consisting of Standard Forms 424, “Application for Federal Assistance” (SF-424), and 424A, “Budget Information—Non-Construction Programs” (SF-424A), which are standard forms required for use as cover sheets for submission of applications and related information under discretionary programs, and the information required by Section 1485.13 of the MAP regulations. Incomplete applications or applications that do not otherwise conform to this announcement and the MAP regulations will not be accepted for review.

In addition, any applicant that has not provided the following required certifications through the System for Award Management (SAM) must complete and provide them to FAS before the application can be approved for funding:

1. SF-424B, “Assurances—Non-Construction Programs”

2. AD-3030 and AD-3031, “Representations Regarding Felony Conviction and Tax Delinquent Status For Corporate Applicants”

3. AD-1047, “Certification Regarding Debarment, Suspension, and Other Responsibility Matters”

4. AD-1049 or AD-1052 (as appropriate), “Certification Regarding Drug-Free Workplace Requirements”

5. Certification Regarding Lobbying. If paragraph 2 of the certification applies, then the form SF-LLL, “Disclosure of Lobbying Activities” must also be completed and submitted.

3. Other Required Information: In accordance with the Office of Management and Budget's policy (68 FR 38402 (June 27, 2003)) regarding the need to identify entities that are receiving government awards, all applicants must submit a Dun and Bradstreet Data Universal Numbering System (DUNS) number. An applicant may request a DUNS number at no cost by calling the dedicated toll-free DUNS number request line at (866) 705-5711.

In addition, in accordance with 2 CFR part 25, each entity that applies to the MAP and does not qualify for an exemption under 2 CFR 25.110 must:

(i) Be registered in SAM prior to submitting an application or plan; and

(ii) Maintain an active SAM registration with current information at all times during which it has an active Federal award or an application or plan under consideration by FAS; and

(iii) Provide its DUNS number in each application or plan it submits to FAS.

FAS may not make an award to an applicant until the applicant has complied with all applicable unique entity identifier and SAM requirements, and, if an applicant has not fully complied with the requirements by the time FAS is ready to make the award, FAS may determine that the applicant is not qualified to receive an award and use that determination as a basis for making an award to another applicant.

Similarly, in accordance with 2 CFR part 170, each entity that applies to MAP and does not qualify for an exception under 2 CFR 170.110(b) must ensure it has the necessary processes and systems in place to comply with the applicable reporting requirements of 2 CFR part 170 should it receive MAP funding.

4. Submission Dates and Times: All applications must be received by 5 p.m. Eastern Daylight Time, Friday, June 28, 2019. Applications received after the deadline will not be considered.

E. Application Review Information

1. Criteria and Review Process: A description of the FAS process for reviewing applications and the criteria for allocating available MAP funds is as follows:

(1) Phase 1—Sufficiency Review and FAS Divisional Review: Applications received by the closing date will be reviewed by FAS to determine the eligibility of the applicants and the completeness of the applications. These requirements appear in sections 1485.12 and 1485.13 of the MAP regulations. Applications that meet the requirements will then be further evaluated by the appropriate Commodity Branch office of FAS' Cooperator Programs Division. The Commodity Branches will review each application against the criteria listed in section 1485.14(b) and (c) of the MAP regulations as well as in this Notice. The purpose of this review is to identify meritorious proposals and to recommend an appropriate funding level for each application based upon these criteria.

(2) Phase 2—Competitive Review: Meritorious applications then will be passed on to the Office of the Deputy Administrator, Office of Trade Programs, for the purpose of allocating available funds among the applicants. Applicants will compete for funds on the basis of the following allocation criteria as applicable (the number in parentheses represents the percentage weight factor):

(a) Applicant's Contribution Level (40): The applicant's 4-year average share (2017-2020) of all contributions under the MAP compared to the applicant's 4-year average share (2017-2020) of the funding level for all MAP Participants.

(b) Past U.S. Export Performance (30): The 3-year average share (2016-2018) of the value of U.S. exports promoted by the applicant compared to the applicant's 2-year average share (2018-2019) of the funding level for all MAP Participants plus, for those groups participating in the Cooperator program, the 2-year average share (2018-2019) of all Cooperator program budgets.

(c) Projected U.S. Export Goals (15): The total dollar value of projected U.S. exports of the commodities being promoted by the applicant for the year 2020 compared to the applicant's requested funding level.

(d) Accuracy of Past U.S. Export Projections (15): The actual dollar value share of U.S. exports of the commodities being promoted by the applicant for the year 2018 as reported in the 2020 MAP application compared to the projection of U.S. exports for 2018 as specified in the 2018 MAP application.

The Commodity Branches' recommended funding levels for each applicant are adjusted by each weight factor as described above to determine the amount of funds allocated to each applicant.

In addition, FAS, prior to making a Federal award with a total amount of Federal share greater than the simplified acquisition threshold, is required to review and consider any information about the applicant that is in the designated integrity and performance system accessible through SAM (currently FAPIIS) (see 41 U.S.C. 2313). An applicant, at its option, may review information in the designated integrity and performance systems accessible through SAM and comment on any information about itself that a Federal awarding agency previously entered and is currently in the designated integrity and performance system accessible through SAM. FAS will consider any comments by the applicant, in addition to the other information in the designated integrity and performance system, in making a judgment about the applicant's integrity, business ethics, and record of performance under Federal awards when completing the review of risk posed by applicants as described in 2 CFR 200.205 “Federal awarding agency review of risk posed by applicants.”

F. Award Administration Information

1. Award Notices: FAS will notify each applicant in writing of the final disposition of its application. FAS will send an approval letter and program agreement to each approved applicant. The approval letter and program agreement will specify the terms and conditions applicable to the project, including the levels of MAP funding and cost-share contribution requirements. All successful applicants for all grant and cooperative agreements are required to comply with the Standard Administrative Terms and Conditions, which are available online at: https://www.fas.usda.gov/grants/general_terms_and_conditions/default.asp. The applicable Standard Administrative Terms and Conditions will be those in effect for the year in which the award was originally made unless explicitly stated otherwise in subsequent mutually-agreed amendments to the award.

Before accepting the award, the potential awardee should carefully read the approval letter and program agreement for instructions on administering the grant award and the terms and conditions associated with responsibilities under Federal Awards. Recipients must accept all conditions in this NOFO as well as any special terms and conditions in the approval letter and program agreement to receive an award under this program.

2. Reporting: FAS requires various reports and evaluations from MAP Participants. Required reports include an annual contributions report that identifies, by cost category and in U.S. dollar equivalents, contributions made by the Participant, the U.S. industry, and the States during that program year. All MAP Participants must also report annual results against their target market and/or regional constraint/opportunity performance measures and must provide program success stories on an annual basis, or more often when appropriate or required by FAS. There are additional reporting requirements for trip reports, evaluation reports, and research reports. Full reporting requirements are detailed in sections 1485.22 and 1485.23 of the MAP regulations.

3. Federal Financial Reporting Requirements: The Federal Financial Reporting Form (FFR) is available online at: https://www.gsa.gov/portal/forms/download/149786.

4. Monitoring: FAS through its authorized representatives, has the right, at all reasonable times, to make site visits to review project accomplishments and management control systems and to provide such technical assistance as may be required. During site visits, FAS will review grant recipients' files related to the grant-funded program.

As part of any monitoring and program evaluation activities, grant recipients must permit FAS, upon reasonable notice, to review grant-related records and to interview the organization's staff and clients regarding the program, and to respond in a timely and accurate manner to FAS requests for information relating to their grant program.

G. Agency Contact(s)

1. Application Submission Contact(s) and Program Support: For additional information and assistance, contact the Program Operations Division, Office of Trade Programs, Foreign Agricultural Service, U.S. Department of Agriculture by courier: Room 6512, 1400 Independence Ave. SW, Washington, DC 20250, or by phone: (202) 720-4327, or by fax: (202) 720-9361, or by email: podadmin@fas.usda.gov.

2. Grants Management Contact(s): Eric Bozoian, Grants Management Specialist, Foreign Agricultural Service, United States, Department of Agriculture, Email: Eric.Bozoian@fas.usda.gov, Office: (202) 378-1054.

Dated: May 21, 2019.
Clay Hamilton,
Acting Administrator, Foreign Agricultural Service.
Dated: May 21, 2019.
Bill Northey,
President, Commodity Credit Corporation.

[FR Doc. 2019-11022 Filed 5-24-19; 8:45 am]

BILLING CODE 3410-10-P